DEPARTMENT OF JUSTICE

[Docket No. ODAG 154]

National Commission on Forensic Science Notice of Charter Renewal and Solicitation of Applications for Additional Commission Membership

AGENCY: Department of Justice.

ACTION: Notice of Charter Renewal and Solicitation of Applications for Additional Commission Membership for the National Commission on Forensic Science.

SUMMARY: In accordance with title 41 of the U.S. Code of Federal Regulations, section 102-3.65(a), notice is hereby given that the Charter for the National Commission on Forensic Science was renewed for an additional two-year period on April 23, 2015. The Attorney General has determined that the National Commission on Forensic Science is necessary and in the public interest in connection with the performance of duties of the Department of Justice and these duties can best be performed through the advice and counsel of this group. This determination follows consultation with the Committee Management Secretariat, General Services Administration. This notice announces the solicitation of applications for additional Commission membership.

DATES: Applications must be received on or before May 28, 2015.

ADDRESSES: All applications should be submitted to: Andrew Bruck, Counsel to the Deputy Attorney General, 950 Pennsylvania Avenue NW., Washington, DC 20530, by email at Andrew.J.Bruck@usdoj.gov, or by phone at (202) 305-3481.

FOR FURTHER INFORMATION CONTACT: Andrew Bruck, Counsel to the Deputy Attorney General, 950 Pennsylvania Avenue NW., Washington, DC 20530, by email at Andrew.J.Bruck@usdoj.gov, or by phone at (202) 305-3481.

SUPPLEMENTARY INFORMATION: The National Commission on Forensic Science was chartered on April 23, 2013 and is co-chaired by the Department of Justice and National Institute of Standards and Technology. The Commission provides recommendations and advice to the Department of Justice concerning national methods and strategies for: strengthening the validity and reliability of the forensic sciences (including medico-legal death investigation); enhancing quality assurance and quality control in forensic science laboratories and units; identifying and recommending scientific guidance and protocols for evidence seizure, testing, analysis, and reporting by forensic science laboratories and units; and identifying and assessing other needs of the forensic science communities to strengthen their disciplines and meet the increasing demands generated by the criminal and civil justice systems at all levels of government. Commission membership includes Federal, State, and Local forensic science service providers; research scientists and academicians; prosecutors, defense attorneys, and judges; law enforcement; and other relevant backgrounds. The Commission reports to the Attorney General, who through the Deputy Attorney General, shall direct the work of the Commission in fulfilling its mission. The renewed charter removes the prohibition on developing or recommending guidance regarding digital evidence. The renewed charter additionally states that the Attorney General will refer recommendations regarding measurement standards and priorities for standards development to the Director of the National Institute of Standards and Technology, as the Attorney General deems appropriate.

The initial solicitation of applications for Commission membership was announced on February 22, 2013 (“Notice of Establishment of the National Commission on Forensic Science and Solicitation of Applications for Commission Membership, 78 FR 12355). This notice announces the solicitation of the application for additional Commission membership. The duties of the Commission include: (a) Recommending priorities for standards development; (b) reviewing and recommending endorsement of guidance identified or developed by subject-matter experts; (c) developing proposed guidance concerning the intersection of forensic science and the courtroom; (d) developing policy recommendations, including a uniform code of professional responsibility and minimum requirements for training, accreditation and/or certification; and (e) identifying and assessing the current and future needs of the forensic sciences to strengthen their disciplines and meet growing demand.

Members will be appointed by the Attorney General in consultation with the Director of the National Institute of Standards and Technology and the vice-chairs of the Commission. Additional members will be selected to fill vacancies to maintain a balance of perspective and diversity of experiences, including Federal, State, and Local forensic science service providers; research scientists and academicians; Federal, State, Local prosecutors, defense attorneys and judges; law enforcement; and other relevant stakeholders. Members will also be selected specifically to support the inclusion of digital evidence. DOJ encourages submissions from applicants with respect to diversity of backgrounds, professions, ethnicities, gender, and geography. The Commission shall consist of approximately 30 voting members. Members will serve without compensation. The Commission generally meets four times each year at approximately three-month intervals.

Applications: Any qualified person may apply to be considered for appointment to this advisory committee. Each application should include: (1) A resume or curriculum vitae; (2) a statement of interest describing the applicant's relevant experience; and (3) a statement of support from the applicant's employer. Potential candidates may be asked to provide detailed information as necessary regarding financial interests, employment, and professional affiliations to evaluate possible sources of conflicts of interest. The application period will remain open through May 28, 2015. The applications must be sent in one complete package, by email, to Andrew Bruck (contact information above) with the subject line of the email entitled, “NCFS Membership 2015.” Other sources, in addition to the Federal Register notice, may be utilized in the solicitation of applications.

Dated: April 22, 2015.
Andrew Bruck,
Designated Federal Official, National Commission on Forensic Science.

[FR Doc. 2015-09934 Filed 4-27-15; 8:45 am]

BILLING CODE 4410-18-P